DEPARTMENT OF TRANSPORTATION

Federal Aviation Administration

14 CFR Part 73

[Docket No. FAA-2008-1130; Airspace Docket No. 08-ASW-14]

RIN 2120-AA66

Change of Controlling Agency for Restricted Areas R-6901A, R-6901B, and R-6903; Wisconsin

AGENCY: Federal Aviation Administration (FAA), DOT.

ACTION: Final rule.

SUMMARY: This action changes the controlling agency of R-6901A and R-6901B, Fort McCoy, WI, from “FAA Chicago ARTCC” to “FAA, Minneapolis ARTCC.” This action also changes the controlling agency of R-6903, Sheboygan, WI, from “FAA, Chicago ARTCC” to “FAA, Minneapolis ARTCC.” The FAA is taking this action in response to a request from Minneapolis Air Route Traffic Control Center (ARTCC) to reflect an administrative change of controlling agency responsibility for the restricted areas. There are no changes to the boundaries; designated altitudes; time of designation; or activities conducted within the affected restricted area.

DATES: Effective Dates: 0901 UTC, January 15, 2009.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On August 18, 2008, Minneapolis ARTCC requested that the FAA change the controlling agency for R-6901A, R-6901B, and R-6903 from Chicago ARTCC to Minneapolis ARTCC. They proposed the controlling agency change request to enhance FAA service to the Volk Combat Readiness Training Center (CRTC) by establishing a single point of coordination for airspace usage. Additionally, as a single point of coordination, they could provide more accurate information to parties seeking information about the Volk airspace complex. Coordination and concurrence with the controlling agency change proposal was accomplished between the two ARTCCs and the Volk CRTC prior to this requested change being submitted by Minneapolis ARTCC.

Section 73.69 of Title 14 CFR part 73 was republished in FAA Order 7400.8P, effective February 16, 2008.

The Rule

This action amends Title 14 Code of Federal Regulations (14 CFR) part 73 by revising the controlling agency listed for R-6901A and R-6901B, Fort McCoy, WI, and R-6903, Sheboygan, WI; transferring controlling agency responsibility for R-6901A and R-6901B from “FAA Chicago ARTCC” to “FAA, Minneapolis ARTCC” and for R-6903 from “FAA, Chicago ARTCC” to “FAA, Minneapolis ARTCC.” This is an administrative change and does not affect the boundaries, designated altitudes, or activities conducted within the restricted area; therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in Subtitle VII, Part A, Subpart I, section 40103. Under that section, the FAA is charged with prescribing regulations to assign the use of the airspace necessary to ensure the safety of aircraft and the efficient use of airspace. This regulation is within the scope of that authority as it is amending the controlling agency for R-6901A and R-6901B, Fort McCoy, WI, and R-6903, Sheboygan, WI.

Environmental Review

The FAA has determined that this action qualifies for a categorical exclusion under the National Environmental Policy Act in accordance with 311d., FAA Order 1050.1E, “Environmental Impacts: Policies and Procedures.” There are no extraordinary circumstances that would require additional environmental analysis.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p.389.

§ 73.69 [Amended]

2. § 73.69 is amended as follows:

* * * * *

R-6901A Fort McCoy, WI [Amended]

Under controlling agency, remove “FAA Chicago ARTCC” and insert the words “FAA, Minneapolis ARTCC.”

* * * * *

R-6901B Fort McCoy, WI [Amended]

Under controlling agency, remove “FAA Chicago ARTCC” and insert the words “FAA, Minneapolis ARTCC.”

* * * * *

R-6903 Sheboygan, WI [Amended]

Under controlling agency, remove “FAA, Chicago ARTCC” and insert the words “FAA, Minneapolis ARTCC.”

* * * * *

Issued in Washington, DC, on November 5, 2008.
Edith V. Parish,
Manager, Airspace and Rules Group.

[FR Doc. E8-26934 Filed 11-12-08; 8:45 am]

BILLING CODE 4910-13-P